DEPARTMENT OF THE TREASURY

Office of Foreign Assets Control

Unblocking of Two Entities Blocked Pursuant to Executive Order 13382 of June 28, 2005 and Updating the Listing of One Individual Blocked Pursuant to Executive Order 13382 of June 28, 2005

AGENCY: Office of Foreign Assets Control, Treasury.

ACTION: Notice.

SUMMARY: The Treasury Department's Office of Foreign Assets Control (“OFAC”) is removing the names of two entities whose property and interests in property were blocked pursuant to Executive Order 13382 of June 28, 2005, “Blocking Property of Weapons of Mass Destruction Proliferators and Their Supporters” from the list of Specially Designated Nationals and Blocked Persons (“SDN List”). In addition, OFAC is updating the listing of one individual whose property and interests in property were blocked pursuant to Executive Order 13382 of June 28, 2005, “Blocking Property of Weapons of Mass Destruction Proliferators and Their Supporters” from the SDN List.

DATES: The removal of the entities from the SDN List and the updating of the individual's listing are effective as of October 16, 2014.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

Additional information concerning OFAC is available from OFAC's Web site (www.treas.gov/ofac) or via facsimile through a 24-hour fax-on-demand service, tel.: 202/622-0077.

Background

The Department of the Treasury's Office of Foreign Assets Control has determined that the following two entities are no longer blocked pursuant to E.O. 13382 and their names will be removed from the SDN List:

Entities

DEUTSCHE FORFAIT (a.k.a. DF DEUTSCHE FORFAIT AKTIENGESELLSCHAFT), Kattenbug 18-24, Koln, Nordrhein-Westfalen 50667, Germany; Additional Sanctions Information—Subject to Secondary Sanctions [NPWMD] [IFSR]

DF DEUTSCHE FORFAIT AMERICAS INC., Miami, FL; Additional Sanctions Information—Subject to Secondary Sanctions [NPWMD] [IFSR]

The unblocking of these entities is effective as of October 16, 2014. All property and interests in property of the entities that are in or hereafter come within the United States or the possession or control of United States persons are now unblocked.

The Department of the Treasury's Office of Foreign Assets Control has determined that the following individual's listing on the SDN List should be amended as follows:

Individual

WIPPERMANN, Ulrich; DOB 02 May 1956; Additional Sanctions Information—Subject to Secondary Sanctions (individual) [NPWMD] [IFSR].

Dated: October 16, 2014.
John E. Smith,
Acting Director, Office of Foreign Assets Control.

[FR Doc. 2014-25462 Filed 10-24-14; 8:45 am]

BILLING CODE 4810-AL-P